ENVIRONMENTAL PROTECTION AGENCY

[FRL-7605-1]

Meetings of the Drinking Water Contaminant Candidate List Classification Process Work Group of the National Drinking Water Advisory Council

AGENCY: Environmental Protection Agency.

ACTION: Notice of public meetings.

SUMMARY: Under section 10(a)(2) of Public Law 92-423, “The Federal Advisory Committee Act,” notice is hereby given of the forthcoming meetings of the Drinking Water Contaminant Candidate List (CCL) Classification Process Work Group of the National Drinking Water Advisory Council (NDWAC), established under the Safe Drinking Water Act, as amended (42 U.S.C. 300f et seq.).

DATES: The dates for the NDWAC CCL Work Group meetings will be as follows: January 22-23, 2004; and March 4-5, 2004. All meetings will be held from 9 a.m.—5 p.m., eastern time on the first day, and 8 a.m.—3:30 p.m., eastern time on the second day.

ADDRESSES: All meetings of the CCL Work Group will be held at RESOLVE Inc., 1255 23rd Street, NW., Suite 275, Washington, DC.

FOR FURTHER INFORMATION CONTACT: For more information on the location and times of these meetings, or general background information, please contact the Safe Drinking Water Hotline (phone: (800) 426-4791 or (703) 412-3330; e-mail: hotline-sdwa@epa.gov).

Notice will be given for any date change, or if additional meetings will be needed beyond the March meeting, as the Work Group proceeds through the year. Please contact RESOLVE at (202) 944-2300 if you plan to attend any of the meetings listed. Any person needing special accommodations at any of these meetings, including wheelchair access, should also contact RESOLVE at least five business days before the meeting so that appropriate arrangements can be made. For technical information, please contact Dr. Jitendra Saxena, Designated Federal Officer, CCL Classification Process Work Group, U.S. Environmental Protection Agency, Office of Ground Water and Drinking Water (4607M), 1200 Pennsylvania Avenue, NW., Washington, DC 20460 (e-mail: saxena.jitendra@epa.gov; phone: (202) 564-5243).

SUPPLEMENTARY INFORMATION: The CCL serves as the primary source of priority contaminants for research and regulatory evaluations for the Agency's drinking water program. The CCL list is comprised of both chemical and microbial contaminants that are known or anticipated to occur in public water systems, that may have adverse health effects, and which, at the time of publication, are not subject to any proposed or promulgated national primary drinking water regulations. EPA has formed a CCL Classification Process Work Group of the National Drinking Water Advisory Council (NDWAC) to help the Agency in developing a new risk based priority setting process based on the recommendations made by the National Research Council (NRC) in its 2001 report.

The Work Group is comprised of 21 recognized technical experts who represent an array of backgrounds and perspectives and who are as impartial and objective as possible. The Work Group is charged with discussing, evaluating, and providing advice on methodologies, activities, and analysis needed to implement the NRC recommendations on an expanded approach for the CCL listing process. This may include advice on developing and identifying (1) an overall implementation strategy; (2) prototype classification methodology, classification attributes and criteria that should be used; (3) pilot projects to validate new classification approaches; (4) demonstration studies that explore the feasibility of the VFAR (Virulance-Factor Activity Relationships) approach; (5) risk communication issues; and (6) additional issues not addressed in the NRC report.

The Work Group has held eight meetings thus far: September 18-19, 2002; December 16-17, 2002; February 5-6, 2003; March 27-28, 2003; May 12-13, 2003; July 16-17, 2003; September 17-18, 2003; and November 13-14, 2003. The September 2002 meeting was devoted to gaining understanding of the NRC recommendations from the invited members of the NRC panel; identifying questions, issues and technical expertise needed to fulfill its charge; and, planning next steps. During subsequent meetings, the Work Group formed activity groups for small group discussions, with each group containing four to eight members; the activity groups then report back to the plenary Work Group. Each activity group holds several conference calls for more detailed group discussions in between the meetings on issues that the plenary Work Group is addressing. The Work Group has discussed methods applicable to contaminant classification and prioritization, occurrence and health effects data needed for this purpose, sources and quality of data needed, and the use of QSAR (Quantitative Structure Activity Relationships) models for providing data when experimental data is unavailable. In addition, the Work Group has held discussions about the VFAR concept and how the concept can be used for identifying high priority microbial contaminants. The Work Group has developed the groups's guiding principles, project work plan, and a tentative final report outline.

The meetings are open to the public for observation purposes only. Statements from the public will be allowed at the close of each meeting day. EPA is not soliciting written comments and is not planning to formally respond to comments.

Nanci E. Gelb,
Acting Director, Office of Ground Water and Drinking Water.

[FR Doc. 03-32216 Filed 12-30-03; 8:45 am]

BILLING CODE 6560-50-P